DEPARTMENT OF COMMERCE

National Oceanic and Atmospheric Administration

RIN 0648-XL03

Fisheries of the Caribbean, Gulf of Mexico, and South Atlantic; Snapper and Grouper Off the Southern Atlantic States

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Gulf Fishermen's Association. If granted, the EFP would authorize the applicants, with certain conditions, to collect limited numbers of undersized and out-of-season reef fish in Gulf of Mexico Federal waters. It would also allow a limited number of red snapper to be collected outside the Gulf of Mexico Individual Fishing Quota (IFQ) program. This study is intended to provide detailed information and disposition of reef fish discards by the eastern Gulf of Mexico commercial reef fish fishery.

DATES: Comments must be received no later than 5 p.m., eastern time, on November 17, 2008.

ADDRESSES: You may submit comments on the application by any of the following methods:

• E-mail: Peter.Hood@noaa.gov. Include in the subject line of the e-mail comment the following document identifier: “GFA_EFP”.

• Mail: Peter Hood, Southeast Regional Office, NMFS, 263 13th Avenue South, St. Petersburg, FL 33701.

• Fax: 727-824-5308.

The application and related documents are available for review upon written request to any of the above addresses.

FOR FURTHER INFORMATION CONTACT: Peter Hood, 727-824-5305; fax: 727-824-5308; e-mail: Peter.Hood@noaa.gov.

SUPPLEMENTARY INFORMATION: The EFP is requested under the authority of the Magnuson-Stevens Fishery Conservation and Management Act (16 U.S.C. 1801 et seq.), and regulations at 50 CFR 600.745(b) concerning exempted fishing.

The described research is part of a Cooperative Research Program Grant (Cooperative Agreement No. NA08NMF4540401). The Cooperative Research Program is a means of involving commercial and recreational fishermen in the collection of fundamental fisheries information. Resource collection efforts support the development and evaluation of fisheries management and regulatory options.

The proposed collection for scientific research involves activities otherwise prohibited by regulations implementing the Fishery Management Plan for the Reef Fish Resources of the Gulf of Mexico. The applicants require authorization to harvest and possess undersized and out-of-season snapper and grouper for scientific research activities during a 1-year period beginning late in 2008. It would also allow the applicants to land red snapper outside of the current IFQ program over this same time period. Specimens would be collected from Federal waters off the west coast of Florida, in three geographical areas: NMFS' Gulf of Mexico statistical grids 2-4, 5-7, and 8-10. Sampling would occur during normal fishing operations of the commercial reef fish longline and vertical hook-and-line fishery. The applicant intends to use 10 longline and 10 vertical hook-and-line gear vessels to randomly collect up to 300 reef fish from each of the three geographical areas. The applicant also intends to retain 100 percent of the catch during two fishing trips within each of three geographical areas. Fish from these portions of the study will be provided to NMFS personnel for length and life history information to better characterize the discards in the commercial fishery. Finally, the applicants will use logbooks and video monitors to test methods for real-time catch reporting and at-sea observation. Data collections for this study would support improved information about the catch, bycatch, discards, and discard mortality for reef fish species.

Accurate estimates of bycatch and the level of discards is a persistent problem for assessing Gulf of Mexico reef fish stocks. Using fisheries dependant data accompanied by independent video monitoring would help establish reliability of current bycatch information and provide a higher level of confidence from various constituents interested in this fishery. Additionally, this information would assist fishery managers in developing more effective regulations to reduce bycatch and discard mortality.

NMFS finds this application warrants further consideration. Based on a preliminary review, NMFS intends to issue an EFP. Possible conditions the agency may impose on this permit, if it is indeed granted, include but are not limited to, a prohibition of conducting research within marine protected areas, marine sanctuaries, or special management zones, without additional authorization. Additionally, NMFS may prohibit the possession of Nassau or goliath grouper, and require any sea turtles taken incidentally during the course of fishing or scientific research activities to be handled with due care to prevent injury to live specimens, observed for activity, and returned to the water. A final decision on issuance of the EFP will depend on a NMFS review of public comments received on the application, consultations with the affected states, the Gulf of Mexico Fishery Management Council, and the U.S. Coast Guard, and a determination that it is consistent with all applicable laws.

Authority: 16 U.S.C. 1801 et seq.

Dated: October 9, 2008.
Emily H. Menashes,
Acting Director, Office of Sustainable Fisheries, National Marine Fisheries Service.

[FR Doc. E8-24541 Filed 10-15-08; 8:45 am]

BILLING CODE 3510-22-S